DEPARTMENT OF COMMERCE

National Oceanic and Atmospheric Administration

[RTID 0648-XB490]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will hold a webinar question and answer session for stakeholders regarding electronic vessel trip reporting (eVTR) in preparation for required commercial electronic reporting.

DATES: The question and answer session will be held via webinar on Tuesday, October 26, 2021, beginning at 5 p.m. For details, see SUPPLEMENTARY INFORMATION.

ADDRESSES: This meeting will be held via webinar and connection and agenda information will be posted at the MAFMC's website: https://www.mafmc.org/council-events.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: This is a Council-hosted eVTR question and answer session open to the public and targeted towards commercial operators. Beginning on November 10, 2021, all commercial vessels with federal permits for species managed by the Mid-Atlantic or New England Council will be required to submit vessel trip reports (VTRs) electronically as eVTRs within 48 hours of the end of a trip (unless required sooner as with some sector allocations). This action does not change any other existing requirements associated with VTRs. These changes were recommended by the MAFMC and NEFMC in order to increase the timeliness and availability of data submitted through VTRs, reduce the reporting burden on commercial vessel operators, and increase the accuracy and quality of data. This meeting follows multiple Council held training workshops and will act as an opportunity for follow up questions regarding using an approved eVTR software application.

Special Accommodations

This meeting is physically accessible to people with disabilities. Requests for sign language interpretation or other auxiliary aids should be directed to Shelley Spedden at the Mid-Atlantic Council Office (302) 526-5251 at least 5 days prior to the meeting date.

Authority: 16 U.S.C. 1801 et seq.

Dated: October 4, 2021.
Tracey L. Thompson,
Acting Deputy Director, Office of Sustainable Fisheries, National Marine Fisheries Service.

[FR Doc. 2021-21918 Filed 10-6-21; 8:45 am]

BILLING CODE 3510-22-P